NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. The full submission may be found at: http://www.reginfo.gov/public/do/PRAMain. This is the second notice for public comment; the first was published in the Federal Register at 72 FR 59116, and no substantial comments were received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission may be obtained by calling 703-292-7556.

NSF may not conduct or sponsor a collection of information unless the collection of information displays a currently valid OMB control number and the agency informs persons who are to potentially respond to the collection of information that such persons are not required to respond to the collection of information unless it displays a currently valid OMB control number.

SUPPLEMENTARY INFORMATION: Title of Collection: Descriptive and Exploratory Study of the National Science Foundation's Small Grants for Exploratory Research Funding Mechanism.

OMB Number: 3145-NEW.

Abstract: The SGER funding mechanism was developed in 1989 by an external committee, and authorized by NSF Director Bloch for use beginning at the start of Fiscal Year 1990. The committee's charge was to recommend whether NSF as a whole should adopt a mechanism similar to one that had been piloted by the Engineering Directorate, known as Small Grants for Expedited Research. While that title emphasized award timeliness, the mechanism's purposes included funding innovative research ideas. The current formulation of SGER remains conceptually and administratively similar to its original purposes and practices. Over time, NSF has broadened award parameters (award ceiling and duration) and sharpened definitions of purposes (e.g., inserting the term Transformative Research). In at least one case the SGER mechanism was modified for a specific program purpose (the Nanoscale Exploratory Grants, which were externally reviewed).

All applicants will be asked about topics relating to the application process (how they found out about SGER, why this mechanism and not a standard proposal, etc.). Awardees will also be asked about activities resulting from their awards, such as follow-on proposals, involvement of graduate students, and testing of new instrumentation. Declinees will be asked, for example, what action they took concerning the declined proposal (wrote standard proposal to NSF or another agency, and whether that was awarded). All applicants will be asked about the guidelines and funding and mechanism, and how they can be improved, e.g., through changes in their design components, expected outcomes, proposal review criteria, etc.

The survey data collection will be done on the World Wide Web.

Estimate of Burden: Public reporting burden for this collection of information is estimated to average 30 minutes per response.

Respondents: Government grant holders—Individuals.

Estimated Number of Responses per Form: 3,778 for the awardee questionnaire and 580 for the non-awardee questionnaire for a total of 4,358.

Estimated Total Annual Burden on Respondents: Aggregate total of 1,430 hours.

Frequency of Response: Once.

Dated: May 16, 2008.
Suzanne H. Plimpton,
Reports Clearance Officer, National Science Foundation.

[FR Doc. E8-11363 Filed 5-20-08; 8:45 am]

BILLING CODE 7555-01-P